DEPARTMENT OF ENERGY

Federal Energy Regulatory Commission

Notice of Application for Surrender of Exemption and Soliciting Comments, Motions To Intervene, and Protests

March 4, 2005.

Take notice that the following application has been filed with the Commission and is available for public inspection:

a. Application Type: Surrender of exemption.

b. Project No: 6662-006.

c. Date Filed: May 6, 2004.

d. Applicant: City of St. George.

e. Name of Project: Lower Gunlock Hydroelectric Project.

f. Location: This project is located on the Santa Clara River in Washington County, Utah. This project does not occupy any tribal or Federal lands.

g. Filed Pursuant to: Federal Power Act, 16 U.S.C. 791(a)-825(r) and sections 799 and 801.

h. Applicant Contact: Mr. Rod Carter, Generation Superintendent; City of St. George; 175 East 200 North; St. George, Utah 84770; 435-634-5800.

i. FERC Contact: Any questions on this notice should be addressed to Kate DeBragga at 202-502-8961, or by e-mail: Kate.DeBragga@ferc.gov.

j. Deadline for filing comments and or motions: April 4, 2005.

All documents (original and eight copies) should be filed with: Ms. Magalie R. Salas, Secretary, Federal Energy Regulatory Commission, 888 First Street, NE., Washington, DC 20426. Please include the project number (P-6662-006) on any comments or motions filed. Comments, protests, and interventions may be filed electronically via the Internet in lieu of paper. See 18 CFR 385.2001(a)(1)(iii) and the instructions on the Commission's Web site under the “e-Filing” link. The Commission strongly encourages e-filings.

k. Description of Request: The City of St. George, licensee of the Lower Gunlock Hydroelectric Project, has requested Commission approval to surrender the exemption for the Gunlock Project (project). The project reservoir, Gunlock Lake, is not included under the exemption. An Operation Inspection of the project in 2004 reveals that the hydro facility has been removed from service, and that the project is no longer capable of generating power. All project features were found to be in good condition, and the overall maintenance of the project was adequate. No significant deficiencies were noted. Upon approval of the proposed surrender, the project would no longer be subject to Commission inspections and regulations. The Utah Department of Natural Resources has indicated that it would continue to regulate the dam if the request for surrender is granted.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, State, and local agencies are invited to file comments on the described applications. A copy of the applications may be obtained by agencies directly from the Applicant. If an agency does not file comments within the time specified for filing comments, it will be presumed to have no comments. One copy of an agency's comments must also be sent to the Applicant's representatives.

Magalie R. Salas,
Secretary.

[FR Doc. E5-1040 Filed 3-11-05; 8:45 am]

BILLING CODE 6717-01-P